DEPARTMENT OF TRANSPORTATION

Pipeline and Hazardous Materials Safety Administration

Notice of Application for Special Permits

AGENCY: Office of Hazardous Materials Safety, Pipeline and Hazardous Materials Safety Administration (PISA), DOT.

ACTION: List of applications for special permits.

SUMMARY: In accordance with the procedures governing the application for, and the processing of, special permits from the Department of Transportation's Hazardous Material Regulations (49 CFR part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before December 28, 2012.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(b); 49 CFR 1.53(b)).

Issued in Washington, DC, on November 13, 2012.
Donald Burger,
Chief, General Approvals and Permits.

Application No. | Docket No. | Applicant | Regulation(s) affected | Nature of special permits thereof
NEW SPECIAL PERMITS
15733-N |  | Lockheed Martin Missiles and Fire Control Dallas, TX | 49 CFR 1075.105, 178.500, 173.60 | To authorize the transportation in commerce of explosives in non-UN approved packaging. (modes 1, 2).
15735-N |  | W.R. Grace Grace-Conn Columbia, MD | 49 CFR 173.242 | To authorize the transportation in commerce of a Class 4.3 material in an IBC. (mode 1).
15741-N |  | Pacific Consolidated Industries, LLC Riverside, CA | 49 CFR 173.302(f)(3), (4), (5); 175.501(e)(3) | To authorize the transportation of oxidizing gases by cargo aircraft without a strong outer packaging capable of passing the Flame Penetration Restance Test, the Thermal Resistance Test, and to waive marking the outer package. (modes 4, 5).
15743-N |  | Midwest Cylinder, Inc. Cleves, OH | 49 CFR 180.211(c)(2)(i) | To authorize the repair of certain DOT 4L cylinders without requiring pressure testing. (mode 1).
15744-N |  | Praxair Distribution, Inc. Danbury, CT | 49 CFR 180.205; 180.209 | To authorize the transportation in commerce of certain cylinders that have been ultrasonically retested for use in transporting Division 2.1, 2.2, and 2.3 materials. (modes 1, 2, 3, 4).
15745-N |  | Praxair Distribution, Inc. Danbury, CT | 49 CFR 173.301(f) | To authorize the transportation in commerce of certain foreign manufactured cylinders qualified under an alternative test method and which are not equipped with pressure relief devices. (modes 1, 3).
15746-N |  | Siex Burgos, Spain | 49 CFR 173.302a; 173.304a | To authorize the transportation in commerce of Division 2.2 gases in cylinders manufactured according to the Eurpoean Directive for Transportable Pressure Vessels. (modes 1, 3).
15747-N |  | UPS Atlanta, GA | 49 CFR 171.2(f); 177.817(a); 177.817(c); 177.817(e); 177.802; 172.203(a); 172.602(c)(1); | To authorize the use of electronic shipping papers. (mode 1).

[FR Doc. 2012-28590 Filed 11-27-12; 8:45 am]

BILLING CODE 4909-60-M